DEPARTMENT OF AGRICULTURE

Animal and Plant Health Inspection Service

[Docket No. APHIS-2006-0126]

Request for Information; Potential Sites for a Sterile Fruit Fly Production Facility or Potential Alternate Sources of Sterile Fruit Flies

AGENCY: Animal and Plant Health Inspection Service, USDA.

ACTION: Notice.

SUMMARY: We are advising the public that the Animal and Plant Health Inspection Service (APHIS) is exploring options for the construction of a multispecies exotic fruit fly facility and/or the privatization of sterile fly production to provide backup capacity for our sterile fruit fly programs and emergency needs. APHIS recognizes the need to maintain a backup for sterile fruit fly production to respond to emergency outbreaks when they occur, and to ensure current preventive release programs in California, Florida, and Texas remain effective. In this notice, we are soliciting the submission of information from interested persons regarding potential sites for the production of sterile fruit flies or alternate sources of those flies.

DATES: We will consider all submissions of information that we receive on or before January 2, 2007.

ADDRESSES: Any information should be submitted, in writing, to the person listed under FOR FURTHER INFORMATION CONTACT.

FOR FURTHER INFORMATION CONTACT: Mr. Michael B. Stefan, Director, Fruit Fly Exclusion and Detection Programs, PPQ, APHIS, 4700 River Road, Unit 137, Riverdale, MD 20737-1229; (301) 734-4387.

SUPPLEMENTARY INFORMATION:

Background

On February 17, 2006, we published in the Federal Register (71 FR 8563, Docket No. APHIS-2006-0007) a notice ¹ advising the public we had prepared a draft document titled “Exotic Fruit Fly Strategic Plan FY 2006-2010” and made it available to the public for review and comment. Appendix A of that document discussed the potential actions we could take in response to the closing of the sterile Mediterranean fruit fly (Medfly) production facility in Waimanalo, HI. The following options were presented: (1) Do not replace the facility; (2) build a new production facility in Hawaii; (3) partner with California Department of Food and Agriculture to expand their sterile fruit fly production facility in Hawaii; or (4) build a multispecies facility in the continental United States or on foreign soil. Most of the comments we received on the draft strategic plan agreed on the need for a multispecies exotic fruit fly facility to provide backup capacity for our sterile fruit fly programs and emergency needs. Additionally, several commenters suggested potential sites for the new facility.

¹ To view the draft strategic plan and the comments we received, go to http://www.regulations.gov, click on the “Advanced Search” tab, and select “Docket Search.” In the Docket ID field, enter APHIS-2006-0007, then click on “Submit.” Clicking on the Docket ID link in the search results page will produce a list of all documents in the docket.

The Animal and Plant Health Inspection Service (APHIS) recognizes the need to maintain a backup for sterile Medfly and Mexican fruit fly (Mexfly) production to respond to emergency outbreaks when they occur, and to ensure that the current preventive release programs in California, Florida, and Texas remain effective. Specifically, we believe we need the capacity to produce 550 million sterile Medflies per week and the ability to maintain and produce 150 million sterile Mexflies per week as a second species. We are exploring our options for meeting these needs, including the construction of a multispecies rearing facility or the privatization of sterile fly production.

In order to further explore our options, we are requesting information from the public regarding options through which we could (1) produce sterile Medflies and Mexflies at an APHIS-managed rearing facility or at a facility operated by a privately owned company or a State or foreign government or (2) purchase sterile Medflies and Mexflies from a facility operated by a privately owned company or a State or foreign government. APHIS is open to considering locations both within and outside the continental United States as backup sources for sterile fruit flies.

Production of sterile fruit flies requires the maintenance of a fertile colony of fruit flies in the facility, and although containment mechanisms are maintained in any production facility, the risk of fertile flies escaping into the local environs can pose a pest risk. Accordingly, any new sterile fruit fly production facility—public or private—would have to be located either in an area that will not support the establishment of the species of fruit flies being produced or an area that is already infested with the species of fruit flies being produced. We welcome any information or suggestions regarding potential locations for the construction of a multispecies facility within or outside the continental United States.

Because the ease of transporting and distributing sterile fruit flies must be considered, we invite information about potential sites where transportation accommodations are of such a nature to allow for the ease of daily shipments to all target release areas of the sterile fruit flies produced. A favorable location would be one where the air transportation accommodations would not entail more than one connecting flight from the production site to the target release area. We are open to information regarding potential locations within or outside the continental United States that would accommodate this need.

In addition, minimizing construction costs and time is desirable. Any potential economic savings in land acquisition, facility construction, and maintenance costs for a new facility will be a high priority in the selection of a site. Any information or suggestions about potential locations on tribal land, retired military bases, or other locations within or outside the United States would be useful. Any suggestions for other ways to help minimize construction costs and time would also be welcome.

Recent advances in research and development of sterile insect technologies necessitate that any new facility should be able to adapt to and incorporate any new technologies (e.g., adapt to new space requirements, accommodate different filter systems, etc.) where appropriate. We invite information about recent advances in research and development of sterile insect technologies, specifically any information regarding new, more effective and efficient, technologies that would be desirable to incorporate into a new production facility.

We are seeking detailed data and information from the public in response to this notice, which we will use as a resource in our exploration of options for construction of a multispecies rearing facility and/or privatization of sterile fly production.

Done in Washington, DC, this 22nd day of November 2006.
W. Ron DeHaven,
Administrator, Animal and Plant Health Inspection Service.

[FR Doc. E6-20392 Filed 11-30-06; 8:45 am]

BILLING CODE 3410-34-P